SURFACE TRANSPORTATION BOARD

Senior Executive Service Performance Review Board (PRB) and Executive Resources Board (ERB) Membership

AGENCY: Surface Transportation Board.

ACTION: Notice of Senior Executive Service Performance Review Board (PRB) and Executive Resources Board (ERB) Membership.

SUMMARY: Effective immediately, the memberships of the PRB and ERB are as follows:

Performance Review Board

Craig Keats, Chairman

Rachel Campbell, Member

Mai Dinh, Member

Danielle Gosselin (Alternate Member)

Executive Resources Board

Rachel Campbell, Chairman

Danielle Gosselin, Member

Janie Sheng Lee, Member

Craig Keats (Alternate Member)

FOR FURTHER INFORMATION CONTACT: If you have any questions, please contact Jennifer Layne at jennifer.layne@stb.gov or 202-245-0340.

Jeffrey Herzig,
Clearance Clerk.

[FR Doc. 2023-15514 Filed 7-20-23; 8:45 am]

BILLING CODE P